DEPARTMENT OF THE INTERIOR

Fish and Wildlife Service

Roanoke River National Wildlife Refuge

ACTION: Notice of intent.

SUMMARY: This notice advises the public that the Fish and Wildlife Service intends to prepare an environmental impact statement to analyze the alternatives in the Draft Comprehensive Conservation Plan under development for the Roanoke River National Wildlife Refuge in North Carolina, pursuant to the National Environmental Policy Act and implementing regulations. Initial public scoping and review meetings were held in May 2001. A Wilderness Review of Roanoke River National Wildlife Refuge was conducted in accordance with the Wilderness Act of 1964, as amended, and Refuge Planning Policy 602 FW, Chapters 1, 2, and 3.

ADDRESSES: Comments and requests for information concerning this refuge may be addressed to: Bob Glennon, 1106 West Queen Street, PO Box 329, Edenton, North Carolina 27932; telephone 252/482-2364; fax 252/482-3855; cell 252/337-5284. Information concerning this refuge may be found at the following Web site: http://rtncf-rci.ral.r4.fws.gov.

If you wish to comment, you may submit your comments by any one of several methods. You may mail comments to the above address. You may also comment via the Internet to the following addresses: bob_glennon@fws.gov or FW4_FR_Planning@fws.gov. Please submit Internet comments as an ASCII file avoiding the use of special characters and any form of encryption. Please also include your name and return address in your Internet message. If you do not receive a confirmation from the system that we have received your Internet message, contact Bob Glennon directly at the above address. Finally, you may hand-deliver comments to Mr. Glennon at 1106 West Queen Street, Edenton, North Carolina. Our practice is to make comments, including names and home addresses of respondents, available for public review during regular business hours. Individual respondents may request that we withhold their home address from the record, which we will honor to the extent allowable by law.

SUPPLEMENTARY INFORMATION: It is the policy of the Fish and Wildlife Service to have all lands within the National Wildlife Refuge System managed in accordance with an approved comprehensive conservation plan. The plan guides management decisions and identifies the goals, objectives, and strategies for achieving refuge purposes. Public input into this planning process is encouraged. The plan will provide other agencies and the public with a clear understanding of the desired conditions of the refuge and how the Service implements management decisions and sets forth goals, objectives, and strategies needed to accomplish refuge purposes and identify the Service's best estimate of future needs. These plans detail program planning levels that are sometimes substantially above current budget allocations and, as such, are primarily for Service strategic planning and program prioritization purposes. The plans do not constitute a commitment for staffing increases, operational and maintenance increases, or funding for future land acquisition. Roanoke River National Wildlife Refuge was established in August 1989, to protect and enhance wooded wetlands consisting of bottomland hardwoods and swamps with high waterfowl value along the Roanoke River.

Authority: The Service is furnishing this notice in compliance with the National Wildlife Refuge System Administration Act of 1966, as amended (16 U.S.C. 668dd et seq.), to (1) advise other agencies and the public of our intentions, and (2) to obtain suggestions and information on the alternatives to include in the environmental impact statement.

Dated: February 15, 2002.
Sam D. Hamilton,
Regional Director.

[FR Doc. 02-7186 Filed 3-25-02; 8:45 am]

BILLING CODE 4310-55-M